DEPARTMENT OF ENERGY

Office of Nonproliferation Policy; Proposed Subsequent Arrangement

AGENCY: Department of Energy.

ACTION: Notice of subsequent arrangement.

SUMMARY: This notice has been issued under the authority of Section 131 of the Atomic Energy Act of 1954, as amended (42 U.S.C. 2160). The Department is providing notice of a proposed “subsequent arrangement” under the Agreement for Cooperation Concerning Civil Uses of Atomic Energy between the United States and Canada and Agreement for Cooperation in the Peaceful Uses of Nuclear Energy between the United States and the European Atomic Energy Community (EURATOM).

This subsequent arrangement concerns the retransfer of 4,393,500 kg of U.S.-origin natural uranium hexafluoride, 2,970,000 kg of which is uranium, from Cogema Resources Inc., Saskatoon Saskatchewan, Canada to Urenco Almelo, Netherlands, Eurodif France, and Urenco Gronau, Germany. The material, which is now located at Cameco Corp., Port Hope, Ontario, will be transferred to the aforementioned recipients for toll enrichment. Urenco Almelo will receive 660,000 kg uranium, Eurodif France will receive 1,650,000 kg uranium, and Urenco Gronau will receive 660,000 kg uranium. Upon completion of the enrichment, the recipients will transfer the material to the Electicite de France, British Energy, and RWE Germany. Cameco Corp. originally obtained the uranium hexafluoride under the UF6 Fee Implementing Contract Component.

In accordance with Section 131 of the Atomic Energy Act of 1954, as amended, we have determined that this subsequent arrangement is not inimical to the common defense and security.

This subsequent arrangement will take effect no sooner than fifteen days after the date of publication of this notice.

For the Department of Energy.
Kurt Siemon,
Acting Director, Office of Nonproliferation Policy.

[FR Doc. 05-3422 Filed 2-22-05; 8:45 am]

BILLING CODE 6450-01-P